DEPARTMENT OF LABOR

Employment and Training Administration

[TA-W-50,564]

Dana Corporation, Engine and Fluid Management Group; Crenshaw, Mississippi; Notice of Termination of Investigation

Pursuant to section 221 of the Trade Act of 1974, as amended, an investigation was initiated on January 15, 2003, in response to a worker petition filed by a company official on behalf of workers at Dana Corporation, Engine and Fluid Management Group, Crenshaw, Mississippi.

The petitioner has requested that the petition be withdrawn. Consequently, the investigation has been terminated.

Signed in Washington, DC this 17th day of January, 2003.
Richard Church,
Certifying Officer, Division of Trade Adjustment Assistance.

[FR Doc. 03-2568 Filed 2-3-03; 8:45 am]

BILLING CODE 4510-30-P